FEDERAL COMMUNICATIONS COMMISSION

[CC Docket No. 96-45; DA 01-2107]

The Federal-State Joint Board on Universal Service

AGENCY: Federal Communications Commission.

ACTION: Notice; comments requested.

SUMMARY: December 8, 2000, the Common Carrier Bureau (Bureau) released a document updating line count input data used in the high-cost universal service model for determining support amounts for 2001. Consistent with the Bureau and Commission precedent, in this document, the Bureau invites comment on updating line counts and other limited information used in the model for calculating high-cost universal service support for non-rural carriers for 2002.

DATES: Comments are due on or before October 4, 2001. Reply comments are due on or before October 10, 2001.

ADDRESSES: See Supplementary Information section for where and how to file comments.

FOR FURTHER INFORMATION CONTACT: Katie King or Thomas Buckley, Attorneys, Common Carrier Bureau, Accounting Policy Division, (202) 418-7400, TTY: (202) 418-0484.

SUPPLEMENTARY INFORMATION: On October 21, 1999, the Commission adopted two orders completing implementation plans for a new high-cost universal service support mechanism for non-rural carriers. The mechanism provides support based on the forward-looking economic cost of providing services eligible for support, as determined by the Commission's universal service cost model. The Commission also emphasized the importance of updating the inputs used in the cost model as technology and other conditions change. On December 8, 2000, the Bureau released an order updating line count input data used in the model for determining support amounts for 2001. Consistent with the Bureau and Commission precedent, the Bureau seeks comment in this Public Notice on how line count and other discrete input values should be updated for purposes of determining support for 2002.

Line Counts. Line counts are used for two general purposes in the high-cost support mechanism for non-rural carriers. First, line counts are used in the Commission's cost model to estimate the forward-looking costs of providing supported services for businesses and households in a geographic area. Second, line counts are used to calculate support based on those costs and target that support to high-cost areas. In the Line Counts Update Order, 65 FR 81759, December 27, 2000, the Bureau updated line counts by using year-end 1999 line counts filed July 31, 2000, as input values for estimating average forward-looking costs for the year 2001. Support amounts for 2001 were also adjusted every quarter using wire center line count data reported by the carriers on a quarterly basis.

In order to estimate the cost of providing service for all businesses and households within a geographic area, line counts also need to be allocated to specific classes of service in the cost model. In the Line Count Data Request, DA 99-1406, (not published in the Federal Register) the Bureau requested, inter alia, that non-rural carriers submit year-end 1998 wire center line count data allocated to the classes of service used in the model. For purposes of calculating forward-looking costs and determining support for 2001, in the Line Counts Update Order, 65 FR 81759, December 27, 2000, the Bureau concluded that line counts should be allocated to the classes of service used in the model based on the line count data filed pursuant to the Line Count Data Request, DA 99-1406, (not published in the Federal Register). Moreover, because line counts reported by non-rural carriers include only switched lines, the Bureau recognized in the Line Counts Update Order, 65 FR 81759, December 27, 2000, that it could not divide year-end line counts into the Line Count Data Request, DA 99-1406, (not published in the Federal Register), to determine the growth rate of special lines. As a result, the Bureau divided the 1999 ARMIS special access lines among wire centers in the same proportion as the special lines from the Line Count Data Request, DA 99-1406, (not published in the Federal Register), to estimate line count growth.

The Bureau seeks comment on updating line count data in the universal service cost model consistent with the updated framework adopted in the Line Counts Update Order, 65 FR 81759, December 27, 2000. The Bureau specifically seeks comment on whether to update line count input values with year-end line counts filed July 31, 2001, in order to estimate average forward-looking costs for 2002. The Bureau also seeks comment on whether to adjust support amounts each quarter using wire center line count data reported by carriers each quarter. In addition, the Bureau seeks comment on whether to apply the methods adopted in the Line Counts Update Order, 65 FR 81759, December 27, 2000, for allocating line counts to classes of service in order to calculate support in 2002. In particular, the Bureau seeks comment on whether line counts should be allocated to the classes of service used in the model based on the line count data filed pursuant to the Line Count Data Request, DA 99-1406, (not published in the Federal Register). Because line counts reported by non-rural carriers include only switched lines, the Bureau also seeks comment on whether to divide the 2000 ARMIS special lines access lines among wire centers in the same proportion as the special lines from the Line Count Data Request, DA 99-1406, (not published in the Federal Register), to estimate special line count growth. Finally, the Bureau seeks comment on whether to apply the method adopted in the Line Counts Update Order, 65 FR 81759, December 27, 2000, for matching line count data to wire centers used in the model for calculating support in 2002.

Other Model Inputs. In addition to line counts, the model uses other types of data that are updated annually under current Commission rules and procedures. Among other things, the model uses company-specific ARMIS data to calculate investment in general support facilities (GSF). GSF investment includes buildings, motor vehicles, and general purpose computers. A portion of GSF investment must be added to the model's estimate of outside plant, switching, and transport investment to adequately reflect the cost of providing the supported services. The Bureau seeks comment on whether it should update the tables in the model with 2000 ARMIS data to estimate GSF investment.

The model also uses company-specific data in determining switching costs. A wire center's switch directs both interstate and intrastate traffic. Universal service support, however, is only provided for the portion of the switch used to direct intrastate traffic. Therefore, to determine the amount of a wire center's switch that is eligible for support, the model needs to determine the percentage of the switch used to direct intrastate service. The model currently uses 1997 and 1998 traffic parameters from ARMIS and the National Exchange Carrier Association (NECA) to determine the percentage of the switch allocated to supported services and the switch port requirement for interoffice transport. The Bureau seeks comment on whether it should update the tables in the model with currently available traffic parameters to determine the percentage of switch allocated to supported services and the switch port requirement for interoffice transport. In particular, the Bureau seeks comment on whether it would be more consistent to use the NECA data as the sole source for traffic parameter data instead of obtaining these data from two sources.

Pursuant to sections 1.415 and 1.419 of the Commission's rules, interested parties may file comments as follows: comment are due October 4, 2001 and reply comments are due October 10, 2001. Comments may be filed using the Commission's Electronic Comment Filing System (ECFS) or by filing paper copies. See Electronic Filing of Documents in Rulemaking Proceedings, 63 FR 24,121 (1998). Comments filed through the ECFS can be sent as an electronic file via the Internet to http://www.fcc.gov/e-file/ecfs.html. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address”. A sample form and directions will be sent in reply. Parties who choose to file by paper must file an original and four copies of each filing. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street SW., Room 5-A422, Washington, DC 20554. In addition, commenters must send diskette copies to the Commission's duplicating contractor, Qualex International, Portals II, 445 12th Street, SW., Room CY-B402, Washington, DC, 20554.

Pursuant to § 1.1206 of the Commission's Rules, this proceeding will continue to be conducted as a permit-but-disclose proceeding in which ex-parte communications are permitted subject to disclosure.

Federal Communications Commission.
Eric N. Einhorn,
Acting Deputy Division Chief, Accounting Policy Division.

[FR Doc. 01-23269 Filed 9-18-01; 8:45 am]

BILLING CODE 6712-01-P